JUDICIAL CONFERENCE OF THE UNITED STATES

Hearing of the Judicial Conference Committee on Civil Rules

AGENCY: Advisory Committee on Civil Rules, Judicial Conference of the United States.

ACTION: Notice of cancellation of open hearing.

SUMMARY: The following public hearing on proposed amendments to the Federal Rules of Civil Procedure has been canceled: Civil Rules Hearing, January 4, 2012, Phoenix, Arizona.

FOR FURTHER INFORMATION CONTACT: Benjamin J. Robinson, Deputy Rules Officer and Counsel Administrative Office of the United States Courts, Washington, DC 20544, telephone (202) 502-1820.

Dated: December 6, 2011.
Benjamin J. Robinson,
Rules Committee Deputy and Counsel.

[FR Doc. 2011-31836 Filed 12-9-11; 8:45 am]

BILLING CODE 2210-55-P